FEDERAL RETIREMENT THRIFT INVESTMENT BOARD

Sunshine Act Meeting

Time and Date: 10 a.m. (EST), November 13, 2000.

Place: 4th Floor, Conference Room 4506, 1250 H Street NW, Washington, DC.

Status: Open.

Matters To Be Considered:

1. Approval of the minutes of the October 10, 2000, Board member meeting.

2. Thrift Savings Plan activity report by the Executive Director.

3. Semiannual review of status of audit recommendations.

4. Quarterly investment policy review.

5. Annual ethics briefing.

Contact Person for More Information: Thomas J. Trabucco, Director, Office of External Affairs, (202) 942-1640.

Dated: November 1, 2000.
Elizabeth S. Woodruff,
Secretary to the Board, Federal Retirement Thrift Investment Board.

[FR Doc. 00-28459 Filed 11-1-00; 4:45 pm]

BILLING CODE 6760-01-M